DEPARTMENT OF HOMELAND SECURITY

Office of the Secretary

Privacy Act of 1974; Retirement of Systems of Records

AGENCY: Privacy Office, DHS.

ACTION: Notice of the retirement of twelve Privacy Act system of records notices.

SUMMARY: In accordance with the Privacy Act of 1974, the Department of Homeland Security is giving notice that it proposes to retire the following Privacy Act system of records notices Justice/INS-026 Hiring Tracking Systems (HITS) (66 FR 46816 September 7, 2001), Justice/INS-034 Human Resources File Manager System (67 FR 56585 September 4, 2002), Treasury/CS.009 Acting Customs Inspector (66 FR 52984 October 18, 2001), Treasury/CS.083 Employee Relations Case Files (66 FR 52984 October 18, 2001), Treasury/CS.105 Former Employees (66 FR 52984 October 18, 2001), Treasury/CS.109 Handicapped Employee File (66 FR 52984 October 18, 2001), Treasury/CS.162 Organization (Customs) and Automated Position Management System (COAPMS) (66 FR 52984 October 18, 2001), Treasury/CS.163 Outside Employment Requests (66 FR 52984 October 18, 2001), Treasury/CS.193 Operating Personnel Folder Files (66 FR 52984 October 18, 2001), Treasury/CS.196 Preclearance Costs (66 FR 52984 October 18, 2001), and Treasury/CS.208 Restoration of Forfeited Annual Leave Cases (66 FR 52984 October 18, 2001), from its inventory of record systems and rely upon the Government-wide system of records notice issued by the Office of Personnel Management, OPM/GOVT-1 General Personnel Records (71 FR 35342 June 19, 2006), which is written to cover all general Federal Government personnel records.

DATES: These changes will take effect on October 30, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is retiring the system of records notices Justice/INS-026 Hiring Tracking Systems (HITS) (66 FR 46816 September 7, 2001), Justice/INS-034 Human Resources File Manager System (67 FR 56585 September 4, 2002), Treasury/CS.009 Acting Customs Inspector (66 FR 52984 October 18, 2001), Treasury/CS.083 Employee Relations Case Files (66 FR 52984 October 18, 2001), Treasury/CS.105 Former Employees (66 FR 52984 October 18, 2001), Treasury/CS.109 Handicapped Employee File (66 FR 52984 October 18, 2001), Treasury/CS.162 Organization (Customs) and Automated Position Management System (COAPMS) (66 FR 52984 October 18, 2001), Treasury/CS.163 Outside Employment Requests (66 FR 52984 October 18, 2001), Treasury/CS.193 Operating Personnel Folder Files (66 FR 52984 October 18, 2001), Treasury/CS.196 Preclearance Costs (66 FR 52984 October 18, 2001), and Treasury/CS.208 Restoration of Forfeited Annual Leave Cases (66 FR 52984 October 18, 2001), that were issued by Immigration and Naturalization Services, Department of Justice and Customs Service, Department of Treasury prior to the creation of the Department of Homeland Security.

DHS will continue to collect and maintain records regarding general personnel records and will rely upon the existing Federal Government-wide system of records titled OPM/GOVT-1 General Personnel Records (71 FR 35342 June 19, 2006), which is written to cover all general Federal Government personnel records.

Eliminating these notices will have no adverse impacts on individuals, but will promote the overall streamlining and management of DHS Privacy Act record systems.

Dated: September 24, 2008.
Hugo Teufel III,
Chief Privacy Officer, Department of Homeland Security.

[FR Doc. E8-22998 Filed 9-29-08; 8:45 am]

BILLING CODE 4410-10-P